FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Reporting and Disclosure Requirements Associated with Regulation G (FR G; OMB No. 7100-0299).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR G.

Final Approval Under OMB Delegated Authority of the Extension for Three Years, Without Revision, of the Following Information Collection

Collection title: Reporting and Disclosure Requirements Associated with Regulation G.

Collection identifier: FR G.

OMB control number: 7100-0299.

General description of collection: Regulation G—Disclosure and Reporting of CRA-Related Agreements (12 CFR part 207) implements section 711 of the Gramm-Leach-Bliley Act, which requires insured depository institutions (IDIs), affiliates of IDIs, and nongovernmental entities or persons (NGEPs) to disclose written agreements entered into in connection with fulfillment of the Community Reinvestment Act. The Board accounts for the financial institution paperwork burden associated with Regulation G only for Board-supervised institutions.

Frequency: Quarterly, annually, and on occasion.

Respondents: State member banks and their subsidiaries; bank holding companies; savings and loan holding companies; affiliates of bank holding companies and savings and loan holding companies, other than banks, savings associations, and subsidiaries of banks and savings associations; and NGEPs that enter into covered agreements with any of the aforementioned entities.

Total estimated number of respondents: 2.

Total estimated annual burden hours: 26.

Current actions: On July 31, 2025, the Board published a notice in the Federal Register (90 FR 36052) requesting public comment for 60 days on the extension, without revision, of the FR G. The comment period for this notice expired on September 29, 2025. The Board did not receive any comments.

Board of Governors of the Federal Reserve System, December 4, 2025.
Erin M. Cayce,
Assistant Secretary of the Board.

[FR Doc. 2025-22262 Filed 12-5-25; 8:45 am]

BILLING CODE 6210-01-P